DEPARTMENT OF COMMERCE

National Oceanic and Atmospheric Administration

RIN 0648-XC104

Endangered and Threatened Species; Take of Anadromous Fish

AGENCY: National Marine Fisheries Service (NMFS), National Oceanic and Atmospheric Administration (NOAA), Commerce.

ACTION: Issuance of two scientific research permits.

SUMMARY: Notice is hereby given that NMFS has issued Permit 16110 to Marin Municipal Water District and Permit 15730 to Salmon Protection and Watershed Network.

ADDRESSES: The approved application for each permit is available on the Applications and Permits for Protected Species (APPS) https://apps.nmfs.noaa.gov Web site by searching the permit number within the Search Database page. The applications, issued permits and supporting documents are also available upon written request or by appointment: Protected Resources Division, NMFS, 777 Sonoma Avenue, Room 325, Santa Rosa, CA 95404 (ph: (707) 575-6097, fax: (707) 578-3435).

FOR FURTHER INFORMATION CONTACT: Jeffrey Jahn at 707-575-6097, or email: Jeffrey.Jahn@noaa.gov.

SUPPLEMENTARY INFORMATION:

Authority

The issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally endangered Central California Coast coho salmon (Oncorhyncus kisutch), threatened Central California Coast steelhead (O. mykiss), and threatened California Coastal Chinook Salmon (O. tshawytscha).

Permits Issued

Permit 16110

A notice of the receipt of an application for a scientific research permit renewal (16110) was published in the Federal Register on June 1, 2011 (76 FR 31590). Permit 16110 was issued to the Marin Municipal Water District on June 5, 2012 and expires on June 30, 2017.

Permit 16110 is for research to be conducted in the Lagunitas Creek and Walker Creek watersheds in Marin County, California. The main purpose of the research is to conduct habitat assessments, biological inventories, and monitor salmon populations in these watersheds. Permit 16110 authorizes capturing (backpack electrofishing, trapping), observing (snorkel surveys), anesthetizing, handling (measuring), tissue sampling, and release of juvenile Central California Coast (CCC) coho salmon, Central California Coast (CCC) steelhead, and California Coastal (CC) Chinook Salmon, henceforth referred to as ESA-listed salmonids.

Permit 11610 authorizes non-lethal take and low levels of unintentional lethal take of juvenile ESA-listed salmonids, as well as adult carcasses of these species. Permit 16110 does not authorize any lethal take of adult ESA-listed salmonids.

Permit 15730

A notice of the receipt of an application for a scientific research and enhancement permit renewal (15730) was published in the Federal Register on June 1, 2011 (76 FR 31590). Permit 15730 was issued to the Salmon Protection and Watershed Network (SPAWN) on June 5, 2012, and expires on June 30, 2017.

Permit 15730 is for research to be conducted in Lagunitas Creek in Marin County, CA. The primary objectives to which ESA-listed salmonids may be taken are to provide baseline data on salmonid presence, habitat use, and abundance in study watersheds and to rescue and relocate stranded juvenile salmonids. Take activities associated with research on juvenile steelhead include the following: capture (backpack electrofishing), observing (spawner surveys), anesthetizing, scale and tissue sampling, tagging (Passive Integrated Transponder tags), trapping (pipe traps), and release of fish. Permit 15730 authorizes SPAWN non-lethal and low levels of unintentional lethal take of juvenile ESA-listed salmonids and take of adult carcasses of these species. Permit 15730 does not authorize any intentional lethal take of ESA-listed salmonids or lethal or non-lethal take of live adult salmonids.

Dated: July 9, 2012.
Angela Somma,
Chief, Endangered Species Division, Office of Protected Resources, National Marine Fisheries Service.

[FR Doc. 2012-17055 Filed 7-11-12; 8:45 am]

BILLING CODE 3510-22-P